DEPARTMENT OF ENERGY

Federal Energy Regulatory Commission

[FERC Docket Nos. CP01-22-002 and CP01-23-000; CA Clearinghouse No. 2001011020; BLM Reference No. CACA-42662]

North Baja Pipeline, LLC; Notice of Availability/Completion of the Final Environmental Impact Statement/Report and Proposed Land Use Plan Amendment for the North Baja Pipeline Project

January 3, 2002.

The staffs of the Federal Energy Regulatory Commission (FERC or Commission), the California State Lands Commission (CSLC), and the Bureau of Land Management (BLM) have prepared a final environmental impact statement/report (EIS/EIR) and proposed land use plan amendment (plan amendment) to address natural gas pipeline facilities proposed by North Baja Pipeline, LLC (NBP).

The final EIS/EIR and proposed plan amendment was prepared as required by the National Environmental Policy Act (NEPA), the California Environmental Quality Act, and the Federal Land Management and Policy Act. Its purpose is to inform the public and the permitting agencies about the potential adverse and beneficial environmental impacts of the proposed project and its alternatives, and recommend mitigation measures that would reduce any significant adverse impacts to the maximum extent possible and, where feasible, to a less than significant level. The FERC, the CSLC, and the BLM staffs conclude that if the project is constructed as modified and in accordance with NBP's proposed mitigation and our recommendations it would be an environmentally acceptable action.

The BLM is participating as a cooperating agency in the preparation of the final EIS/EIR and proposed plan amendment because the project would cross Federal land under the jurisdiction of the Palm Springs, El Centro, and Yuma Field Offices. The Bureau of Reclamation (BOR) is also a cooperating agency in the preparation of the document because lands administered by the BOR would be crossed by the project. The final EIS/EIR and proposed plan amendment will be used by the BLM to consider issuance of a right-of-way grant for the portion of the project on lands managed by the BLM and the BOR. The document will also be used by the BLM to consider amending the California Desert Conservation Area (CDCA) Plan (as amended), which would be necessary for pipeline construction outside of designated utility corridors, as well as amending the Yuma District Resource Management Plan (Yuma District Plan), which would be necessary for pipeline construction across the Milpitas Wash Special Management Area. The BLM proposes to adopt the final EIS/EIR and proposed plan amendment per Title 40 Code of Federal Regulations (CFR) part 1506.3 to meet its responsibilities under NEPA and its planning regulations per Title 43 CFR part 1610. The BLM Arizona and California State Directors have approved the proposed plan amendments for their respective planning areas. The BLM will present separate Records of Decision for the right-of-way grant and the plan amendment for the North Baja Pipeline Project after the issuance of the final EIS/EIR and proposed plan amendment.

The final EIS/EIR and proposed plan amendment addresses the potential environmental effects of the construction and operation of the following facilities in Arizona and California:

• About 79.9 miles of 36-inch-diameter (11.8 miles) and 30-inch-diameter (68.1 miles) natural gas pipeline (North Baja pipeline) extending from an interconnection with El Paso Natural Gas Company (El Paso) in La Paz County, Arizona, through Riverside and Imperial Counties, California to the international border between the United States and Mexico;

• A new compressor station (Ehrenberg Compressor Station) consisting of three 7,200-horsepower (hp) gas-fired centrifugal compressor units for a total of 21,600 hp (with one additional 7,200-hp spare unit) at the El Paso interconnect in La Paz County, Arizona;

• Two meter stations, one at the interconnect with El Paso at the Ehrenberg Compressor Station site (Ehrenberg Meter Station) and one in Imperial County, California near the interconnect at the international border (Ogilby Meter Station);

• A pig launcher at the Ehrenberg Compressor Station site; a pig launcher and receiver at the Ogilby Meter Station site; and a separate pig launcher and receiver facility (Rannells Trap) in Riverside County, California; and

• Seven mainline valves, one each at the Ehrenberg Compressor Station site, Rannells Trap, and Ogilby Meter Station site, and another four spaced as required along the proposed pipeline route.

The final EIS/EIR and proposed plan amendment has been placed in the public files of the FERC and the CSLC and is available for public inspection at:

Federal Regulatory Energy Commission

Public Reference and Files Maintenance Branch

888 First Street, NE., Room 2A

Washington, DC 20426

(202) 208-1371

and

California State Lands Commission

100 Howe Avenue, Suite 100 South

Sacramento, CA 95825-8202

(916) 574-1889

The final EIS/EIR and proposed plan amendment has been mailed to appropriate Federal, state, and local agencies; elected officials; Native American groups; newspapers; public libraries; intervenors to the FERC's proceeding; and other interested parties who provided scoping comments, commented on the draft EIS/EIR and draft plan amendment, or wrote to the FERC, the CSLC, or the BLM asking to receive a copy of the document. A formal notice indicating that the final EIS/EIR and proposed plan amendment is available was sent to the remaining parties on the environmental mailing list.

A limited number of copies of the final EIS/EIR and proposed plan amendment are available from the FERC's Public Reference and Files Maintenance Branch identified above. Copies may also be obtained from Goodyear K. Walker, CSLC, at the address above. The final EIS/EIR and proposed plan amendment is also available for viewing on the CSLC Web site at the Internet address below.

Additional information about the proposed project is available from Goodyear K. Walker at the CSLC at (916) 574-1893, or on the CSLC Web site at http://www.slc.ca.gov, or from the FERC's Office of External Affairs at (202) 208-1088, or on the FERC Web site at http://www.ferc.gov using the “RIMS” link, select “Docket#” and follow the instructions (call (202) 208-2222 for assistance). Access to the text of formal documents issued by the Commission with regard to these dockets, such as orders and notices, is also available on the FERC Web site using the “CIPS” link. For assistance with access to CIPS, the CIPS helpline can be reached at (202) 208-2474.

Information concerning the proposed CDCA and Yuma District Plan amendments and the involvement of the BLM in the EIS/EIR and plan amendment process is available from Lynda Kastoll, BLM Project Manager, at (760) 337-4421.

The CSLC is expected to certify the final EIS/EIR and act on NBP's application at a regularly scheduled meeting in early 2002. Interested parties will be notified of the date, time, and place of the meeting. If you have any questions regarding the CSLC hearing, or wish to testify, please contact Goodyear K. Walker at the number above.

Linwood A. Watson, Jr.,
Acting Secretary.

[FR Doc. 02-462 Filed 1-16-02; 8:45 am]

BILLING CODE 6717-01-P